DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR Part 67. FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR Part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR Part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Dearborn County, Indiana, and Incorporated Areas
Docket No.: FEMA-B-1176
Great Miami River | Approximately 0.23 mile upstream of the Ohio River confluence | +490 | City of Greendale, Unincorporated.
| 5.07 miles upstream of the Ohio River confluence | +490 | Areas of Dearborn County.
Ohio River | Approximately 0.65 mile upstream of the Laughery Creek confluence | +486 | City of Aurora, City of Lawrenceburg, Unincorporated Areas of Dearborn County.
| Approximately 1.25 miles upstream of the Tanners Creek confluence | +488
Tanners Creek | Approximately 0.46 mile downstream of U.S. Route 50 | +489 | City of Greendale, City of Lawrenceburg, Unincorporated Areas of Dearborn County.
| Approximately 2.07 miles upstream of Conrail | +489
Wilson Creek | At the Ohio River confluence | +487 | City of Aurora, Unincorporated Areas of Dearborn County.
| Approximately 0.35 miles upstream of Wilson Creek Road | +487
* National Geodetic Vertical Datum.
+ North American Vertical Datum.
# Depth in feet above ground.
‸ Mean Sea Level, rounded to the nearest 0.1 meter.
ADDRESSES
City of Aurora
Maps are available for inspection at City Hall, 235 Main Street, Aurora, IN 47001.
City of Greendale
Maps are available for inspection at Utilities Office, 510 Ridge Avenue, Greendale, IN 47025.
City of Lawrenceburg
Maps are available for inspection at Administration Building, 230 Walnut Street, Lawrenceburg, IN 47025.
Unincorporated Areas of Dearborn County
Maps are available for inspection at Dearborn County Administration Building, 215B West High Street, Lawrenceburg, IN 47025.
Colfax County, Nebraska, and Incorporated Areas
Docket No.: FEMA-B-1178
East Fork Maple Creek | Approximately 81 feet downstream of State Highway 91 | +1454 | Unincorporated Areas of Colfax County.
| Approximately 1,651 feet upstream of County Road 14 | +1467
Platte River | Approximately 0.73 miles upstream of County Road 18 | +1310 | Unincorporated Areas of Colfax County.
| Approximately 2.93 miles upstream of Wolfe Road | +1410
Shell Creek | Approximately 834 feet upstream of County Road D | +1332 | Unincorporated Areas of Colfax County.
| Approximately 1.9 miles upstream of County Road 2 | +1446
Shell Creek (Right Overbank) | Approximately 0.76 miles downstream of County Road E | +1348 | City of Schuyler, Unincorporated Areas of Colfax County.
| Approximately 1.5 miles upstream of U.S. Route 30 | +1361
* National Geodetic Vertical Datum.
+ North American Vertical Datum.
# Depth in feet above ground.
‸ Mean Lower Low Water.
ADDRESSES
City of Schuyler
Maps are available for inspection at the City Office, 1103 B Street, Schuyler, NE 68661.
Unincorporated Areas of Colfax County
Maps are available for inspection at the County Courthouse, 411 East 11th Street, Schuyler, NE 68661.
Smith County, Texas, and Incorporated Areas
Docket No.: FEMA-B-1213
Black Fork Creek | Approximatey 0.43 mile upstream of the Prairie Creek West confluence | +380 | City of Tyler, Unincorporated Areas of Smith County.
| Approximately 0.71 mile upstream of East 5th Street | +531
Black Fork Creek Tributary BF-1 | At the Black Fork Creek confluence | +436 | City of Tyler, Unincorporated Areas of Smith County.
| Approximately 1.2 miles upstream of Loop 323 | +476
Black Fork Creek Tributary BF-M-1 | At the Black Fork Creek confluence | +496 | City of Tyler.
| Approximately 1,475 feet upstream of Devine Street | +523
Black Fork Creek Tributary D | At the Black Fork Creek confluence | +469 | City of Tyler.
| Approximately 1,180 feet upstream of East Front Street | +508
Black Fork Creek Tributary D-1 | At the Black Fork Creek Tributary D confluence | +473 | City of Tyler.
| Approximately 1,770 feet upstream of the Black Fork Creek Tributary D confluence | +479
Black Fork Creek Tributary D-2 | At the Black Fork Creek Tributary D confluence | +487 | City of Tyler.
| Approximately 1,053 feet upstream of Townsend Avenue | +490
Black Fork Creek Tributary D-3 | At the Black Fork Creek Tributary D confluence | +488 | City of Tyler.
| At Elm Street | +491
Butler Creek | Approximately 340 feet upstream of Farm to Market 2661 | +361 | City of Tyler, Unincorporated Areas of Smith County.
| Approximately 640 feet upstream of State Route 155 | +457
Gilley Creek | Approximately 310 feet downstream of Farm to Market 848 | +379 | City of Tyler, Unincorporated Areas of Smith County.
| Approximately 150 feet upstream of University Boulevard | +474
Gilley Creek Tributary G-1 | At the Gilley Creek confluence | +426 | City of Tyler, Unincorporated Areas of Smith County.
| Approximately 1.14 miles upstream of County Road 2120 | +478
Harris Creek | Approximately 300 feet upstream of the Ray Creek confluence | +329 | Unincorporated Areas of Smith County.
| Approximately 2.16 miles upstream of Farm to Market 850 | +463
Henshaw Creek | At the West Mud Creek confluence | +383 | Unincorporated Areas of Smith County.
| Approximately 0.71 mile upstream of County Road 165 | +477
Indian Creek | Approximately 490 feet upstream of the Lake Palestine confluence | +349 | City of Tyler, Unincorporated Areas of Smith County.
| Approximately 1,950 feet upstream of Loop 323 | +473
Ray Creek | Approximately 0.37 mile upstream of the Harris Creek confluence | +332 | Unincorporated Areas of Smith County.
| Approximately 525 feet upstream of Old Gladwater Highway | +436
Shackleford Creek | At the West Mud Creek confluence | +383 | City of Tyler, Unincorporated Areas of Smith County.
| Approximately 620 feet upstream of Paluxy Drive (Farm to Market 756) | +481
West Mud Creek | Approximately 200 feet upstream of Farm to Market 344 East | +361 | City of Tyler, Unincorporated Areas of Smith County.
| Approximately 1,300 feet upstream of Easy Street | +496
West Mud Creek Tributary 11 | At the West Mud Creek confluence | +419 | City of Tyler.
| Approximately 400 feet upstream of Holly Creek Drive | +462
West Mud Creek Tributary B | Approximately 125 feet upstream of the West Mud Creek confluence | +467 | City of Tyler.
| Approximately 125 feet upstream of Paluxy Drive | +504
West Mud Creek Tributary M-1 | At the West Mud Creek Tributary M-A confluence | +444 | City of Tyler.
| Approximately 1,440 feet upstream of Cross Creek Circle | +485
West Mud Creek Tributary M-2 | Approximately 425 feet upstream of the West Mud Creek confluence | +463 | City of Tyler.
| Approximately 1,510 feet upstream of Barbee Drive | +469
West Mud Creek Tributary M-A | Approximately 200 feet upstream of the West Mud Creek confluence | +444 | City of Tyler.
| Approximately 80 feet upstream of Woodland Hills Drive | +509
West Mud Creek Tributary M-A.1 | At the West Mud Creek Tributary M-A confluence | +471 | City of Tyler.
| Approximately 680 feet upstream of Rice Road | +485
West Mud Creek Tributary M-A.2 | At the West Mud Creek Tributary M-A confluence | +487 | City of Tyler.
| Approximately 830 feet upstream of the West Mud Creek Tributary M-A confluence | +493
West Mud Creek Tributary M-C | Approximately 450 feet upstream of the West Mud Creek confluence | +477 | City of Tyler.
| Approximately 50 feet upstream of Old Jacksonville Highway | +530
West Mud Creek Tributary M-C.1 | Approximately 160 feet upstream of the West Mud Creek Tributary M-C confluence | +488 | City of Tyler.
| Approximately 1,010 feet upstream of New Copeland Road | +491
West Mud Creek Tributary M-C.2 | At the West Mud Creek Tributary M-C confluence | +502 | City of Tyler.
| Approximately 1,000 feet upstream of Old Bullard Road | +511
Wiggins Creek | At the downstream side of the railroad | +327 | Unincorporated Areas of Smith County.
| Approximately 0.83 mile upstream of Harris Creek Church Road | +373
Willow Creek | At the Black Fork Creek confluence | +423 | City of Tyler, Unincorporated Areas of Smith County.
| Approximately 1.48 miles upstream of Loop 323 North-Northwest | +480
* National Geodetic Vertical Datum.
+ North American Vertical Datum.
# Depth in feet above ground.
‸ Mean Sea Level, rounded to the nearest 0.1 meter.
ADDRESSES
City of Tyler
Maps are available for inspection at the Development Services Office, 423 West Ferguson Street, Tyler, TX 75702.
Unincorporated Areas of Smith County
Maps are available for inspection at the Smith County Courthouse, 100 North Broadway Avenue, Tyler, TX 75702.

(Catalog of Federal Domestic Assistance No. 97.022, “Flood Insurance.”)

Dated: December 18, 2013.
Roy E. Wright,
Deputy Associate Administrator for Mitigation, Department of Homeland Security, Federal Emergency Management Agency.

[FR Doc. 2014-01377 Filed 1-23-14; 8:45 am]

BILLING CODE 9110-12-P